DEPARTMENT OF THE INTERIOR

National Park Service

[NPS-WASO-NRNHL-22886; PPWOCRADI0, PCU00RP14.R50000]

National Register of Historic Places; Notification of Pending Nominations and Related Actions

AGENCY: National Park Service, Interior.

ACTION: Notice.

SUMMARY: The National Park Service is soliciting comments on the significance of properties nominated before February 4, 2017, for listing or related actions in the National Register of Historic Places.

DATES: Comments should be submitted by March 14, 2017.

ADDRESSES: Comments may be sent via U.S. Postal Service to the National Register of Historic Places, National Park Service, 1849 C St. NW., MS 2280, Washington, DC 20240; by all other carriers, National Register of Historic Places, National Park Service, 1201 Eye St. NW., 8th Floor, Washington, DC 20005; or by fax, 202-371-6447.

SUPPLEMENTARY INFORMATION: The properties listed in this notice are being considered for listing or related actions in the National Register of Historic Places. Nominations for their consideration were received by the National Park Service before February 4, 2017. Pursuant to section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State Historic Preservation Officers:

CALIFORNIA

Los Angeles County

Zumbrota, 13755 Fill Way, Marina Del Rey, SG100000762

CONNECTICUT

New Haven County

New Haven Clock Company Factory, 133 Hamilton St., New Haven, SG100000761

MICHIGAN

Ingham County

Glaister, Richard and Deborah (Brough), House, 402 S. Walnut St., Lansing, SG100000763

NEBRASKA

Douglas County

National Indemnity Company Headquarters, 3024 Harney St., Omaha, SG100000765

Hall County

Hedde Building, 201-203 W. 3rd St., Grand Island, SG100000766

OKLAHOMA

Creek County

Creek Masonic Lodge No. 226, 417 N. Main St., Bristow, SG100000768

Ottawa County

Walker, Isaiah, House, 69491 E. 134th Rd., Wyandotte, SG100000769

OREGON

Yamhill County

Glenbrook Farm, 12789 Meadowlake Rd., Carlton vicinity, SG100000770

WISCONSIN

Sauk County

Ruhland, Charles and Anna, 213 Lynn St., Baraboo, SG100000774

A request for removal has been made for the following resource(s):

NEBRASKA

Franklin County

Dupee Music Hall, 1402 P St., Franklin, OT85002484

TENNESSEE

Meigs County

Shiflett, H.C., Barn, (Meigs County, Tennessee MRA), SR 1, Georgetown, OT82004014

Sullivan County

Pearson Brick House, E of Kingsport on Shipley Ferry Rd., Kingsport vicinity, OT73001846

Washington County

Bowers-Kirkpatrick Farmstead, 3033 Boone's Creek Rd., Gray vicinity, OT97001108

An additional documentation has been received for the following resource(s):

MICHIGAN

Lenawee County

Civil War Memorial, Monument Park, E. Church St., Adrian, AD72000632

Authority: 60.13 of 36 CFR part 60.

Dated: February 7, 2017.
J. Paul Loether,
Chief, National Register of Historic Places/National Historic Landmarks Program.

[FR Doc. 2017-03735 Filed 2-24-17; 8:45 am]

BILLING CODE 4312-52-P